ENVIRONMENTAL PROTECTION AGENCY

[FRL-6868-4]

Agency Information Collection Activities: Proposed Collection; Comment Request; Aquatic Animal Production Industry Survey

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Aquatic Animal Production Industry Survey (EPA ICR No. 1988.01). Before submitting the ICR to OMB for review and approval, EPA is soliciting comments on specific aspects of the proposed information collection as described below.

DATES: Comments must be submitted on or before November 13, 2000.

ADDRESSES: Comments may be mailed to Ms. Marta Jordan, U.S. EPA (4303) 1200 Pennsylvania Ave., NW., Washington, DC 20460. Comments may also be submitted electronically to jordan.marta@epa.gov.

FOR FURTHER INFORMATION CONTACT: To request a copy of the ICR, including a draft of the survey, contact Ms. Marta Jordan at (202) 260-0817.

SUPPLEMENTARY INFORMATION: Affected Entities: Entities potentially affected by this action include operators of aquatic animal production facilities within or that discharge to waters of the United States. The survey is intended to identify and collect data from aquatic animal production facilities that generate and discharge process wastewater associated with industrial activities. Aquatic animal production facilities (e.g., fish hatcheries or fish farms) are privately or publicly owned facilities that contain, grow or hold aquatic animals.

Title: Aquatic Animal Production Industry Survey (EPA ICR No. 1988.01).

Abstract: EPA is planning to survey aquatic animal production facilities to collect the technical and economic information EPA will need to develop effluent limitations guidelines and standards. Currently, no nationally applicable effluent limitations guidelines and standards exist to regulate discharges from facilities in this industry. EPA will develop effluent regulations for this industry due, in part, to the widespread concern about excess nutrients and other chemicals entering the Nation's waters from animal production and feeding operations (both aquatic and land based).

EPA is required by section 304(m) of the Clean Water Act, 33 U.S.C. 1314(m), to identify categories of sources that discharge pollutants and to establish a schedule for establishing effluent limitations guidelines for these categories. EPA is also required by the terms of a Consent Decree with the Natural Resources Defense Council, Inc. (NRDC) to develop effluent limitations guidelines and standards for the aquatic animal production industry. NRDC v EPA, (D.D.C. Civ. No. 89-2980, January 31, 1992, as modified). EPA is conducting the survey to collect the information EPA needs to respond to these legislative and judicial requirements.

EPA would issue this survey instrument under authority of section 308 of the Clean Water Act, 33 U.S.C. 1318. Responses from survey recipients will be mandatory. EPA would mail the survey instrument to aquatic animal producers after OMB approves the ICR. The ICR submitted by EPA to OMB will include discussion of the comments received in response to today's notice. An agency may not conduct or sponsor, and a person is not required to respond to, a collection of information unless it displays a currently valid OMB control number. The OMB control numbers for EPA's regulations are listed in 40 CFR Part 9 and 48 CFR Chapter 15.

The proposed survey instrument is an important part of the effluent limitations guidelines development process. The proposed survey instrument will provide EPA with the technical and economic data necessary to evaluate effective pollution control technologies and the economic achievability of any final rule applicable to aquatic animal production facility discharges. Burden reduction suggestions should be mindful of EPA's need to collect information on the pollutants discharged by aquatic animal production facilities, the processes that generate pollutants, alternative controls, the economic achievability of proposed regulations, and the benefits derived from reducing pollution in our oceans, lakes, rivers, and streams. EPA will consider characteristics of the wastewater discharges, performance of the control technologies, including management practices and the affordability (economic achievability) by different segments (or subcategories) when making final decisions on requirements for controlling the discharges from the industry.

Regulations governing the confidentiality of business information are contained in the Code of Federal Regulations (CFR) at Title 40 Part 2, Subpart B. A survey respondent may submit a business confidentiality claim covering part or all of the response to this survey, other than effluent data, as described in 40 CFR 2.203 (b):

(b) Method and time of asserting business confidentiality claim. A business which is submitting information to EPA may assert a business confidentiality claim covering the information by placing on (or attaching to) the information, at the time it is submitted to EPA, a cover sheet, stamped or typed legend, or other suitable form or company confidential. Allegedly, confidential portions of otherwise nonconfidential documents should be clearly identified by the business, and may be submitted separately to facilitate identification and handling by EPA. If the business desires confidential treatment only until a certain date or until the occurrence of a certain event, the notice should so state.

If no business confidentiality claim accompanies the information when it is received by EPA, EPA may make the information available to the public without further notice.

EPA developed the proposed survey instrument in a manner designed to reduce burden and improve clarity. EPA believes that the facilities potentially affected by this regulation can be adequately characterized by sending the survey to only a portion of facilities in the industry. EPA estimates mailing surveys to less than 500 facilities and would include facilities varying in size and ownership characteristics, (although this number may change before the survey is mailed as EPA refines its methodology for determining the portion of facilities, by segment of industry, to receive the survey). EPA distributed the draft survey in advance of this notice to the Joint Subcommittee on Aquaculture, Aquaculture Effluents Task Force (JSA/AETF), which includes representatives from industry trade associations, academia, and other interested stakeholders. EPA also conducted two conference calls with one of the major technical subgroups (economic technical subgroup) of the JSA/AETF to discuss the economic questions in the survey. To the extent possible, EPA incorporated comments and suggestions from these initial reviews into the current draft of the survey instrument. Finally, once EPA mails the survey instrument, EPA intends to maintain a temporary, toll-free number that survey recipients may call to obtain assistance in completing the survey. EPA believes that the toll-free telephone number should greatly reduce burden by helping recipients to answer specific questions within the context of their individual operations.

The survey instrument will provide information to characterize current conditions in the aquatic animal production industry, which has grown and changed since 1977, when EPA proposed, but did not adopt, effluent limitations guidelines and standards for fish hatcheries and farms (which are included in the broader category of aquatic animal production facilities). EPA intends to supplement the survey responses with publicly available data, such as Dun and Bradstreet records and NPDES permitted facility data (Discharge Monitoring Reports). EPA also plans to use information from the 1998 USDA Aquaculture Census, to the extent possible.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including the use of appropriate automated electronic, mechanical, or other information collection techniques, e.g., permitting electronic submission of responses.

Burden Statement: Burden means the total time, effort, or financial resources expended by persons to generate, maintain, retain, or disclose or provide information to or for a federal agency. Burden includes the time needed to review instructions; develop, acquire, install, and utilize technology and systems for the purposes of collecting, validating, and verifying information, processing and maintaining information, and disclosing and providing information; to adjust the existing ways to comply with any previously applicable instructions and requirements; to train personnel to be able to respond to a collection of information; to search data sources; to complete and review the collection of information; and to transmit or otherwise disclose the information.

The EPA burden estimate on facilities is based on an estimated 500 facilities completing the survey. EPA estimates that the total cost burden will be approximately $352,250 and the hour burden will be 15,500 hours, as described in more detail in the tables below.

Respondent Average Burden per Survey Response Activity
Respondent activity | Total burden per activity (hours)
Read Instructions | 5
Gather Information/Data | 11
Complete Survey Form | 8
Review Survey Responses | 7
All Activities | 31

Collection of Aquatic Animal Production Facilities Data, Total Respondent Burden and Costs
Total number of responses | Average burden per burden respondent (in hours) | Totabl burden (in hours) | Average labor costs per respondent (in dollars) | Total labor costs (in dollars) | Average O&M costs per respondent (in dollars) | Total O&M costs (in dollars) | Total costs (in dollars)
500 | 31 | 15,500 | $694 | $347,000 | $10.50 | $5,250 | $352,250

In addition, EPA solicits comments and suggestions regarding the substance and form of the draft survey instrument. For example, EPA solicts comment on whether the directions and questions are clear and concise; whether the definitions are consistent with the industry's use of terms; whether the right questions are contained in the survey (if not, please suggest more appropriate ones); whether the questions adequately cover all pertinent factors relevant to developing equitable guidelines (if not, what needs to be added?). EPA is also soliciting survey instrument. For example, EPA solicits comment on whether the directions and questions are clear and concise; whether the definitions are consistent with the industry's use of terms; whether the right questions are contained in the survey (if not, please suggest more appropriate ones); whether the questions adequately cover all pertinent factors relevant to developing equitable guidelines (if not, what needs to be added?) EPA is also soliciting comments on means of reducing the data collection burden.

Dated: August 31, 2000.
Geoffrey H. Grubbs,
Director, Office of Science and Technology.

[FR Doc. 00-23650 Filed 9-13-00; 8:45 am]

BILLING CODE 6560-50-P